DEPARTMENT OF TRANSPORTATION

Federal Aviation Administration

14 CFR Part 39

[Docket No. FAA-2006-26052; Directorate Identifier 2006-NE-30-AD; Amendment 39-15275; AD 2007-24-09]

RIN 2120-AA64

Airworthiness Directives; Rolls-Royce plc, RB211 Trent 768-60, 772-60, and 772B-60 Turbofan Engines

AGENCY: Federal Aviation Administration (FAA), Department of Transportation (DOT).

ACTION: Final rule; request for comments.

SUMMARY: The FAA is superseding an existing airworthiness directive (AD) for Rolls-Royce plc (RR) RB211 Trent 768-60, 772-60, and 772B-60 turbofan engines. That AD currently requires initial and repetitive on-wing or in-shop inspections of the high pressure/intermediate pressure (HP/IP) turbine bearing oil feed tube heat shield. This AD requires the same actions but introduces a terminating action to the repetitive inspections. This AD results from RR introducing a revised HP/IP turbine bearing support structure as terminating action to the repetitive inspections of the HP/IP turbine bearing oil feed tube heat shield. We are issuing this AD to prevent an uncontained failure of the HP turbine disc and damage to the airplane.

DATES: Effective December 14, 2007. The Director of the Federal Register previously approved the incorporation by reference of certain publications listed in the regulations as of December 19, 2006 (71 FR 66229, November 14, 2006). The Director of the Federal Register approved the incorporation by reference of certain publications listed in the regulations as of December 14, 2007.

We must receive any comments on this AD by January 28, 2008.

ADDRESSES: Use one of the following addresses to comment on this AD.

• Federal eRulemaking Portal: Go to http://www.regulations.gov and follow the instructions for sending your comments electronically.

• Mail: U.S. Docket Management Facility, Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce plc, P.O. Box 31, Derby, DE24 8BJ, United Kingdom; telephone 44 (0) 1332 242424; Fax 44 (0) 1332 249936 for a copy of the service information identified in this AD.

FOR FURTHER INFORMATION CONTACT: Christopher Spinney, Aerospace Engineer, Engine Certification Office, FAA, Engine and Propeller Directorate, 12 New England Executive Park, Burlington, MA 01803; e-mail: Christopher.spinney@faa.gov; telephone (781) 238-7175; fax (781) 238-7199.

SUPPLEMENTARY INFORMATION: On November 3, 2006, the FAA issued AD 2006-23-11, Amendment 39-14823 (71 FR 66229, November 14, 2006). That AD requires initial and repetitive on-wing or in-shop inspections of the HP/IP turbine bearing oil feed tube heat shield. That AD was the result of a report that a damaged outer heat shield caused fretting of the oil feed tubes. That condition, if not corrected, could result in an uncontained failure of the HP turbine disc and damage to the airplane.

Actions Since AD 2006-23-11 Was Issued

Since that AD was issued, the European Aviation Safety Agency (EASA), which is the Technical Agent for the Member States of the European Community, recently notified us that RR introduced a revised HP/IP turbine bearing support structure to terminate the repetitive inspections. This AD requires initial and repetitive on-wing or in-shop inspections of the HP/IP turbine bearing oil feed tube heat shield, and requires revising the HP/IP turbine bearing support structure as terminating action to the repetitive inspections in this AD. We are issuing this AD to prevent an uncontained failure of the HP turbine disc and damage to the airplane.

Relevant Service Information

We have reviewed and approved the technical contents of RR Service Bulletin (SB) No. RB.211-72-F117, Revision 2, dated September 25, 2006, RR SB No. RB.211-72-F227, Revision 1, dated October 8, 2007, and RR Immediate Operational Request SB No. RB.211-72-F048, Revision 11, dated September 9, 2006, that describe procedures for revising the HP/IP turbine bearing support structure. EASA classified these SBs as mandatory and issued AD 2007-0260 in order to ensure the airworthiness of these RR engines in Europe.

Bilateral Airworthiness Agreement

These engine models are manufactured in the United Kingdom and are type certificated for operation in the United States under the provisions of section 21.29 of the Federal Aviation Regulations (14 CFR 21.29) and the applicable bilateral airworthiness agreement. Under this bilateral airworthiness agreement, EASA has kept the FAA informed of the situation described above. We have examined the findings of EASA, reviewed all available information, and determined that AD action is necessary for products of this type design that are certificated for operation in the United States.

FAA's Determination and Requirements of This AD

Although no airplanes that are registered in the United States use these Trent 768-60, 772-60, and 772B-60 turbofan engines, the possibility exists that these engines could be used on airplanes that are registered in the United States in the future. The unsafe condition described previously is likely to exist or develop on other Trent 768-60, 772-60, and 772B-60 turbofan engines of the same type design. We are issuing this AD to prevent an uncontained failure of the HP turbine disc and damage to the airplane. This AD requires initial and repetitive on-wing or in-shop inspections of the HP/IP turbine bearing oil feed tube heat shield, and requires revising the HP/IP turbine bearing support structure as terminating action to the repetitive inspections in this AD. You must use the service information described previously to perform the actions required by this AD.

FAA's Determination of the Effective Date

Since there are currently no domestic operators of this engine model, notice and opportunity for public comment before issuing this AD are unnecessary. Therefore, a situation exists that allows the immediate adoption of this regulation.

Comments Invited

This AD is a final rule that involves requirements affecting flight safety and was not preceded by notice and an opportunity for public comment. However, we invite you to send us any written relevant data, views, or arguments regarding this AD. Send your comments to an address listed under ADDRESSES. Include “AD Docket No. FAA-2006-26052; Directorate Identifier 2006-NE-30-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the FDMS Web site, anyone can find and read the comments in any of our dockets, including the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-14823 (71 FR 66229, November 14, 2006), and by adding a new airworthiness directive, Amendment 39-15275, to read as follows:

2007-24-09 Rolls-Royce plc: Amendment 39-15275. Docket No. FAA-2006-26052; Directorate Identifier 2006-NE-30-AD.

Effective Date

(a) This airworthiness directive (AD) becomes effective December 14, 2007.

Affected ADs

(b) This AD supersedes AD 2006-23-11, Amendment 39-14823.

Applicability

(c) This AD applies to Rolls-Royce plc (RR) RB211 Trent 768-60, 772-60, and 772B-60 turbofan engines. These engines are installed on, but not limited to, Airbus A330 series airplanes.

Unsafe Condition

(d) This AD results from RR introducing a revised high pressure/low pressure (HP/IP) turbine bearing support structure as terminating action to the repetitive inspections of the HP/IP turbine bearing oil feed tube heat shield. We are issuing this AD to prevent an uncontained failure of the HP turbine disc and damage to the airplane.

Compliance

(e) You are responsible for having the actions required by this AD performed within the compliance times specified unless the actions have already been done.

Initial Inspection

(f) Initially inspect the HP/IP turbine oil feed tube outer heat shield for cracks. Use either 3.A.(1) through 3.A.(3) on-wing procedures or 3.B.(1)(a) through 3.B.(1)(e) in-shop procedures of RR Alert Service Bulletin (ASB) No. RB.211-72-AF045, Revision 2, dated July 27, 2006, at one of the following compliance times:

(1) At the next shop visit of the 05 Module regardless of the reason for the visit; or

(2) Before one of the following intervals whichever occurs latest:

(i) 10,000 hours or 2,500 cycles since new, whichever occurs first, or

(ii) 2,500 cycles since overhaul of the 05 Module.

Repetitive Inspection

(g) Re-inspect the HP/IP turbine oil feed tube outer heat shield for cracks as specified in the applicable criteria of paragraphs C.(1)(b)(i) through C(1)(b)(vi) or C(2)(b)(i) through C(2)(b)(ii) of RR ASB No. RB.211-72-AF045, Revision 2, dated July 27, 2006. Use either 3.A.(1) through 3.A.(3) on-wing procedures or 3.B.(1)(a) through 3.B.(1)(e) in-shop procedures of RR ASB RB.211-72-AF045, Revision 2, dated July 27, 2006.

Remove HP/IP Turbine Oil Feed Tube Outer Heat Shields From Service

(h) Remove from service HP/IP turbine oil feed tube outer heat shields according to the applicable criteria in paragraphs C(1)(b)(vii) through C(1)(b)(vii) or C(2)(b)(iii) of RR ASB No. RB.211-72-AF045, Revision 2, dated July 27, 2006.

Terminating Action

(i) At the next 05 Module overhaul after the effective date of this AD, or before May 31, 2010, whichever occurs first, as terminating action to the repetitive inspections in this AD, introduce the revised HP/IP turbine bearing support structure.

(j) Use one of the following to introduce the revised HP/IP turbine bearing support structure:

(1) RR Service Bulletin (SB) No. RB.211-72-F117, Revision 2, dated September 25, 2006; or

(2) RR SB No. RB.211-72-F227, Revision 1, dated October 8, 2007; or

(3) RR Immediate Operational Request SB No. RB.211-72-F048, Revision 11, dated September 9, 2006.

Alternative Methods of Compliance

(k) The Manager, Engine Certification Office, has the authority to approve alternative methods of compliance for this AD if requested using the procedures found in 14 CFR 39.19.

Related Information

(l) European Aviation Safety Agency AD 2007-0260, dated October 2, 2007, also addresses the subject of this AD.

(m) Contact Christopher Spinney, Aerospace Engineer, Engine Certification Office, FAA, Engine and Propeller Directorate, 12 New England Executive Park, Burlington, MA 01803; e-mail: Christopher.spinney@faa.gov; telephone (781) 238-7175; fax (781) 238-7199, for more information about this AD.

Material Incorporated by Reference

(n) You must use the Rolls-Royce service information in Table 1 of this AD to perform the inspections and terminating action required by this AD. The Director of the Federal Register previously approved the incorporation by reference of Rolls-Royce plc Alert Service Bulletin No. RB.211-72-AF045, Revision 2, dated July 27, 2006, as of December 19, 2006 (71 FR 66229, November 14, 2006).The Director of the Federal Register approved the incorporation by reference of the other service bulletins listed in Table 1 of this AD in accordance with 5 U.S.C. 552(a) and 1 CFR part 51. Contact Rolls-Royce plc P.O. Box 31, Derby, DE24 8BJ, United Kingdom; telephone 44 (0) 1332 242424; Fax 44 (0) 1332 249936 for a copy of this service information. You may review copies at the FAA, New England Region, 12 New England Executive Park, Burlington, MA 01803; or at the National Archives and Records Administration (NARA). For information on the availability of this material at NARA, call (202) 741-6030, or go to: http://www.archives.gov/federal-register/cfr/ibr-locations.html.

Table 1.—Material Incorporated by Reference
Service Bulletin No. | Page | Revision | Date
RB.211-72-AF045 | All | 2 | July 27, 2006.
RB.211-72-F048 | All | 11 | September 9, 2006.
RB.211-72-F117 | All | 2 | September 25, 2006.
RB.211-72-F227 | All | 1 | October 8, 2007.

Issued in Burlington, Massachusetts, on November 20, 2007.
Peter A. White,
Assistant Manager, Engine and Propeller Directorate, Aircraft Certification Service.

[FR Doc. E7-23020 Filed 11-28-07; 8:45 am]

BILLING CODE 4910-13-P